DEPARTMENT OF ENERGY

Federal Energy Regulatory Commission

[Docket No. IN07-26-004]

Brian Hunter; Third Supplemental Notice of Designation of Commission Staff

On February 1, 2008, the Commission issued an order that, inter alia, designated the staff of the Office of Enforcement as non-decisional in deliberations by the Commission in this proceeding, with the exception of the Director of the Office of Enforcement and the Directors of the Divisions of Investigations, Energy Market Oversight, Audits, and Financial Regulation. On May 6, 2008, in a Supplemental Notice of Designation of Commission Staff, Shauna Coleman, an attorney in the Office of Enforcement was designated as an additional exception to the designation of the Office of Enforcement as non-decisional.

On August 20, 2009, the Commission issued the Second Supplemental Notice of Designation of Commission Staff designating Larry Gasteiger, Deputy Direction of the Office of Enforcement, and Max Minzner, Senior Counsel to the Director of the Office of Enforcement, as additional exceptions to the designation of the Office of Enforcement as non-decisional. Mr. Minzner is no longer employed by the Commission.

In this notice, the Commission designates James Meade, Attorney Advisor, as an additional exception to the designation of the Office of Enforcement as non-decisional. Mr. Meade joined the Office of Enforcement after the previous notices were issued and did not participate in the investigation at issue in this proceeding.

Dated: February 10, 2011.
Kimberly D. Bose,
Secretary.

[FR Doc. 2011-3622 Filed 2-16-11; 8:45 am]

BILLING CODE 6717-01-P